DEPARTMENT OF THE INTERIOR

National Park Service

[N6344; NPS-WASO-NAGPRA-NPS0040599; PPWOCRADN0-PCU00RP14.R50000]

Notice of Inventory Completion: U.S. Department of the Air Force, Vandenberg Space Force Base, Santa Barbara County, CA

AGENCY: National Park Service, Interior.

ACTION: Notice.

SUMMARY: In accordance with the Native American Graves Protection and Repatriation Act (NAGPRA), the Department of the Air Force, Vandenberg Space Force Base has completed an inventory of human remains and associated funerary objects and has determined that there is a cultural affiliation between the human remains and associated funerary objects and Indian Tribes or Native Hawaiian organizations in this notice.

DATES: Repatriation of the human remains and associated funerary objects in this notice may occur on or after August 28, 2025.

ADDRESSES: Send written requests for repatriation of the human remains and associated funerary objects in this notice to Josh Smallwood, Vandenberg Space Force Base Cultural Resources, Installation Tribal Liaison Officer/Cultural Resources Manager, SLD 30 CES/CEIEA, 1028 Iceland Avenue, Building 11146, Vandenberg Space Force Base, CA 93437-6010 email stacy.smallwood.1@spaceforce.mil.

SUPPLEMENTARY INFORMATION: This notice is published as part of the National Park Service's administrative responsibilities under NAGPRA. The determinations in this notice are the sole responsibility of the Department of the Air Force, and additional information on the determinations in this notice, including the results of consultation, can be found in its inventory or related records. The National Park Service is not responsible for the determinations in this notice.

Abstract of Information Available

Human remains representing at least one individual have been reasonably identified. One associated funerary object, a charmstone, was also found. A total of 739 pieces of fragmentary human bone and one charmstone fragment were discovered in Vandenberg Space Force Base's Space Transportation System/West Coast Space Shuttle Legacy during sorting of the Inactive Storage portion of Accession numbers 200, 241, 242, and 243, curated at the University of California Santa Barbara Repository for Archaeological and Ethnographic Collections. NAGPRA items were detected only in Accession 200. Sorting and collection rehabilitation were completed May 21, 2024. No potentially hazardous substances were used to treat the human remains or funerary objects. The human remains and funerary object are reasonably identified as Chumash in origin.

Cultural Affiliation

Based on the information available and the results of consultation, cultural affiliation is reasonably identified by the geographical location or acquisition history of the human remains and associated funerary objects described in this notice.

Determinations

The Department of the Air Force has determined that:

• The human remains described in this notice represent the physical remains of at least one individual of Native American ancestry.

• The one funerary object described in this notice is reasonably believed to have been placed intentionally with or near individual human remains at the time of death or later as part of the death rite or ceremony.

• There is a connection between the human remains and associated funerary objects described in this notice and the Santa Ynez Band of Chumash Mission Indians of the Santa Ynez Reservation, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after August 28, 2025. If competing requests for repatriation are received, the Department of the Air Force must determine the most appropriate requestor prior to repatriation. Requests for joint repatriation of the human remains and associated funerary objects are considered a single request and not competing requests. The Department of the Air Force is responsible for sending a copy of this notice to the Indian Tribes and Native Hawaiian organizations identified in this notice and any other consulting parties.

Authority: Native American Graves Protection and Repatriation Act, 25 U.S.C. 3003, and the implementing regulations, 43 CFR 10.10.

Dated: July 9, 2025.
Melanie O'Brien,
Manager, National NAGPRA Program.

[FR Doc. 2025-14262 Filed 7-28-25; 8:45 am]

BILLING CODE 4312-52-P